DEPARTMENT OF THE TREASURY

Alcohol and Tobacco Tax and Trade Bureau

[TTB Notice No. 1; TTB O 1190.1]

Delegation Order—Deciding Requests Under the Freedom of Information Act and the Privacy Act; Authority To Decide Administrative Appeals Under the Freedom of Information Act and the Privacy Act

To: All Bureau Employees and All Interested Parties

1. Purpose. This order establishes responsibilities for making initial decisions on requests under the Freedom of Information Act (FOIA) and the Privacy Act (PA). It also delegates the authority to decide administrative appeals under the Freedom of Information Act, 5 U.S.C. 552, and the Privacy Act, 5 U.S.C. 552a.

2. Background. The Freedom of Information Act generally provides that any person has the right of access to Alcohol and Tobacco Tax and Trade Bureau (TTB) records, except to the extent that such records (or portions thereof) are protected from disclosure by a specific provision of the FOIA. The Privacy Act is both an access law and a non-disclosure law. Any individual (i.e. U.S. citizen or legal alien) who is the subject of a Privacy Act record or records maintained by the Bureau can request access to such records. The Privacy Act requires the Bureau to give access to their records unless the Bureau has exempted the entire system of records from the access provisions.

3. Effective Date. This order is effective January 24, 2003.

4. Ratification. In addition to section 1512(a) of the Homeland Security Act of 2002, Public Law 107-296, 116 Stat. 2135 (2002), this order affirms and ratifies any action taken that is consistent with this order.

5. Delegation.

a. The Chief, Regulations and Procedures Division is hereby delegated responsibility for making initial decisions on requests under the FOIA or PA and processing such requests.

b. The Assistant Administrator, Headquarters Operations is hereby delegated authority to decide administrative appeals under the Freedom of Information Act, 5 U.S.C. 552, and the Privacy Act, 5 U.S.C. 552a.

6. Coordination. The Office of Chief Counsel is responsible for preparing proposed decisions on administrative appeals under the FOIA and PA for consideration of the Assistant Administrator, Headquarters Operations.

7. Submission of FOIA Requests. All FOIA requests for the Alcohol and Tobacco Tax and Trade Bureau should be sent to the following address: Chief, Regulations and Procedures Division, Alcohol and Tobacco Tax and Trade Bureau, 650 Massachusetts Avenue, NW., Room 5000, Washington, DC 20226.

8. Redelegation. The authorities delegated in this order may not be redelegated.

9. Questions. If you have a question about this order, contact the Chief, Regulations and Procedures Division (202-927-8210).

Arthur J. Libertucci,
Administrator.

[FR Doc. 03-2932 Filed 2-5-03; 8:45 am]

BILLING CODE 4810-31-P